ENVIRONMENTAL PROTECTION AGENCY

40 CFR Parts 141 and 142

[FRL-9635-1]

Arsenic Small Systems Compliance and Alternative Affordability Criteria Working Group; public meeting

AGENCY: Environmental Protection Agency (EPA).

ACTION: Notice of public meeting.

SUMMARY: EPA is holding an initial meeting of the Arsenic Small Systems Working Group to provide input and recommendations on barriers to the use of point-of-use and point-of-entry treatment units, package plant, and modular units, as well as alternative affordability criteria that give extra weight to small, rural, and lower income communities. This meeting will be held via Webcast and the public may attend this meeting.

DATES: The Work Group meeting will be held on March 2, 2012 (1 p.m. to 4 p.m., Eastern Time (ET)). Persons wishing to participate must register in advance as described in the SUPPLEMENTARY INFORMATION section.

ADDRESSES: The meeting will be held via the Internet using a Webcast and teleconference. Registrants will receive an Internet access link and dial in number upon registration for the Webcast. To participate in the Webcast, you must register in advance at the following Web address: https://www3.gotomeeting.com/register/679236510.

FOR FURTHER INFORMATION CONTACT: For questions about this specific meeting, contact Russ Perkinson, Office of Ground Water and Drinking Water, U.S. Environmental Protection Agency; telephone (202) 564-4901 or by email to perkinson.russ@epa.gov.

SUPPLEMENTARY INFORMATION: Congressional language contained in the Conference Report (H.R. 2055) accompanying the Consolidated Appropriations Act of 2012 directs the Environmental Protection Agency to convene an Arsenic Small Systems Working Group composed of representatives from States, small publicly owned water systems, local public health officials, drinking water consumers and treatment manufacturers to provide input and recommendations on barriers to the use of point-of-use and point-of-entry treatment units, package plant, and modular units, as well as alternative affordability criteria that give extra weight to small, rural, and lower income communities. Based upon input from the work group, the EPA will submit to Congress a report on actions to make alternative compliance methods more accessible to water systems and a report on alternative affordability criteria.

To participate in the Webcast, you must register in advance at the following Web address: https://www3.gotomeeting.com/register/679236510. The number of connections available for the Webcast is limited and will be available on a first come, first served basis. During the Webcast, a public comment period will be held for persons wishing to participate that have registered in advance to speak. Individual comments should be limited to no more than three minutes and it is preferred that only one person present the statement on behalf of a group or organization. Individuals wishing to speak during the public comment period or individuals without Internet access seeking alternative means to participate in the meeting must contact Russ Perkinson at (202) 564-4901 or by email to perkinson.russ@epa.gov no later than February 28, 2012.

Special Accommodations

To request special accommodations for individuals with disabilities, please contact Russ Perkinson at (202) 564-4910 or by email to perkinson.russ@epa.gov. Please allow at least five business days prior to the meeting to allow time to process your request.

Dated: February 15, 2012.
Cynthia C. Dougherty,
Director, Office of Ground Water and Drinking Water.

[FR Doc. 2012-3912 Filed 2-17-12; 8:45 am]

BILLING CODE 6560-50-P